NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection.

Description of Permit Modification Requested: The Foundation issued a permit (ACA 2022-005) to Leidos Innovations Group, Antarctic Support Contract on September 2, 2021. The issued permit allows the applicant to introduce non-indigenous species into Antarctica. This permit authorizes the import and use of commercially available proprietary bacterial supplements for use in the Marine Sanitation Device aboard relevant support vessels deployed in support of the Palmer Pier Replacement Project.

The applicant proposes a modification to this permit regarding the microbial agents used in marine sanitation devices on board support vessels. Specifically, the permit holder requests altering the language of the permit to accurately reflect specific additives being used in marine sanitation devices.

The Environmental Officer has reviewed the modification request and has determined that the amendment is not a material change to the permit, and it will have a less than a minor or transitory impact.

DATES: October 1, 2021-April 30, 2023.

The permit modification was issued on November 16, 2021.

Erika N. Davis,
Program Specialist, Office of Polar Programs.

[FR Doc. 2021-25728 Filed 11-24-21; 8:45 am]

BILLING CODE 7555-01-P